DEPARTMENT OF THE INTERIOR

Bureau of Land Management

[2200-ULEP; OR930-7122-DS-9033: GP1-0228]

Notice of Intent To Prepare an Environmental Impact Statement

1. Description of the proposed planning action: The Bureau of Land Management (BLM) proposes to work with the Foundation for Voluntary Land Exchanges (Foundation) to develop a land ownership adjustment plan (plan) and environmental impact statement for approximately 675,000 acres in the Coast Range area of the Umpqua River Basin in western Oregon. The plan will identify the following: non-federal lands or interests in land within the planning area (with concurrence of willing non-federal landowners) that are recommended for acquisition through exchange by the United States; federal lands or interests in land within the planning area that are recommended for disposal in exchange for acquired lands of equal value; and specific land exchanges. This effort is intended to consolidate land ownership to reduce costs of administration and achieve management efficiency. In addition, this consolidation should improve federal and non-federal land management and planning, enhance protection and restoration of listed species' habitats, wetlands, riparian areas, and other environmentally sensitive areas, and improve public access and recreational use, while allowing for sustainable timber production. Although the selected alternative will be consistent with the intent of the Northwest Forest Plan, some of the current allocations or management direction may be modified. The selected alternative will amend the BLM's Coos Bay, Eugene, and Roseburg districts' Resource Management Plans, and the Siuslaw National Forest Land and Resource Management Plan, unless the no-action alternative is adopted.

2. Identification of the geographic area: The planning area covers approximately 675,000 acres in the Coast Range portion of the lower Umpqua River Basin in western Oregon. The area is primarily (98 percent) within Douglas County, Oregon (approximately 3,000 acres are in Coos County and 12,400 acres in Lane County). Approximately 225,000 acres are BLM-administered lands, 59,000 acres are National Forest lands, 34,300 acres are state lands, 8,300 acres are county or city, and 348,400 acres are privately owned.

3. General types of issues anticipated: In general, the issues anticipated include the following: improved efficiency of land and resource management; management of vegetation communities; minimizing effects on listed and proposed species and their habitats; watershed protection and function; timber sustainability on federal lands; timber supply to small businesses; revenues to state and local governments; consideration of continued public access and recreation; and protection of wetlands, riparian reserves, water quality, and cultural and historic resources.

4. Disciplines to be represented to prepare the plan will include, but not be limited to: wildlife biology, fish biology, forest ecology, silviculture, archaeology, economics, geology, soils, hydrology, lands and minerals, recreation, and land use planning.

5. Kind and extent of public participation: This project will be conducted with an open, public process. Public meetings/open houses will be held in July, during the comment period on the Draft Environmental Impact Statement, and at other times based on need. In addition, meetings will be initiated with city, county, state, and tribal governments, other federal agencies, the Southwest Oregon and Oregon Coast Provincial Advisory committees, and with other groups or agencies upon request. A website for the project, found at http://www.or.blm.gov/umpqua, will include flyers, mailers, and other documents, project updates, contacts, time lines, background, and other pertinent information. The BLM project manager, Patrick Geehan, and the Foundation managers, Marc Kelley and Robert Gill, will be available to discuss public concerns and suggestions. Access to designers of the Multi-Resource Land Allocation Model (Model) and EIS interdisciplinary team members will be through the project managers. Comments concerning the scope of the analysis should be received in writing by August 8, 2001. Anonymous comments will be accepted and analyzed; however, the author(s) will not be ensured protest rights during the protest period. Written comments concerning this proposal may be sent to ULEP, c/o BLM, P.O. Box 2965, Portland, OR 97208. Comments may also be sent via e-mail to ULEP@or.blm.gov.

6. Times, dates, locations of public meetings: Preliminary scoping meetings are scheduled as follows: July 16, 2001: Reedsport, Oregon, 3:00-5:00 p.m. and 7:00-9:00 p.m. at the Reedsport High School, Pacific Auditorium, 2260 Longwood Drive. July 17: Roseburg, Oregon, 7:00-9:00 p.m. at the Douglas County Courthouse, 1036 SE Douglas Ave, #216. July 18: Drain, Oregon, 6:00-9:00 p.m. at the Drain Branch Library, 205 West A Ave. July 19: Eugene, Oregon, 6:00-8:00 p.m. at the Eugene City Council Chambers, 777 Pearl Street #105. Public meetings also will be held in Reedsport, Roseburg, Drain, and Eugene during the comment period on the Draft EIS, anticipated to be May through July 2002.

7. Name, title, address, and telephone number of BLM official: For further information contact either the BLM project manager or the Foundation operations manager. The BLM project manager for the Umpqua Land Exchange Project is Patrick Geehan, BLM, P.O. Box 2965, Portland, OR 97208, phone 503-952-6445. The Foundation Project Coordinator is Robert Gill, Foundation for Voluntary Land Exchange, 4033 SW Canyon Road, Portland, OR 97221, phone 503-274-2855.

8. Location and availability of documents relevant to the planning process: Final published documents relevant to the planning process will be available at the BLM Oregon State Office in Portland, Oregon, at the address stated above. These documents will also be available in PDF format on the project website: http://www.or.blm.gov/umpqua.

9. Privacy Act disclaimer for individuals who may wish to have their address withheld: Comments, including names and street addresses of respondents, will be available for public review at the Oregon State Office in Portland, Oregon during regular business hours (8:00 a.m. to 4:30 p.m.). Individual respondents may request confidentiality. If you wish to withhold your name or address from public review or from disclosure under the Freedom of Information Act, you must state this prominently at the beginning of your written comment. Such requests will be honored to the extent allowed by law. All submissions from organizations or businesses, and from individuals identifying themselves as representatives or officials of organizations or businesses, will be made available for public inspection in their entirety. Comments submitted anonymously will be accepted and considered; however, those who submit anonymous comments may not have standing to protest the proposed decision under 43 CFR 1610.5-2.

Dated: June 28, 2001.
Patrick H. Geehan,
Project Manager.

[FR Doc. 01-17128 Filed 7-6-01; 8:45 am]

BILLING CODE 4310-33-P